DEPARTMENT OF JUSTICE

Parole Commission

Public Announcement; Pursuant to the Government in the Sunshine Act (Pub. L. 94-409) (5 U.S.C. 552b)

Agency Holding Meeting: Department of Justice, United States Parole Commission.

Date and Time: 11 a.m., Tuesday, February 11, 2003.

Place: U.S. Parole Commission, 5550 Friendship Boulevard, 4th Floor, Chevy Chase, Maryland 20815.

Status: Closed—Meeting.

Matters Considered: The following matter will be considered during the closed portion of the Commission's Business Meeting:

Appeals to the Commission involving approximately two cases decided by the National Commissioners pursuant to a reference under 28 CFR 2.27. These cases were originally heard by an examiner panel wherein inmates of Federal prisons have applied for parole and are contesting revocation of parole or mandatory release.

Agency Contact: Tom Hutchinson, Executive Office, United States Parole Commission, (301) 492-5307.

Dated: February 4, 2003.
Rockne J. Chickinell,
General Counsel, Parole Commission.

[FR Doc. 03-3130 Filed 2-5-03; 9:42 am]

BILLING CODE 4410-31-M